DEPARTMENT OF TRANSPORTATION

National Highway Traffic Safety Administration

[Docket No. NHTSA-2012-0059]

Request for Comments on a Renewal of a Previously Approved Information Collection: Automotive Fuel Economy Reports

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on May 18, 2012 (77 FR 29751). No comments were received.

DATES: Comments must be submitted on or before October 11, 2012.

FOR FURTHER INFORMATION CONTACT: Kenneth R. Katz, Fuel Economy Division, Office of International Policy, Fuel Economy and Consumer Programs, NVS-132, National Highway Traffic Safety Administration, U.S. Department of Transportation, 1200 New Jersey Avenue SE., Washington, DC 20590, Phone: (202) 366-4936.

SUPPLEMENTARY INFORMATION:

Title: 49 CFR Part 537, Automotive Fuel Economy Reports.

OMB Control Number: 2127-0019.

Type of Request: Renewal of a Previously Approved Information Collection.

Abstract: 49 United States Code (U.S.C.) 32907(a) requires a manufacturer to submit reports to the Secretary of Transportation on whether a manufacturer will comply with an applicable average fuel economy standard under 49 U.S.C. 32902 of this title for the model year for which the report is made, the actions a manufacturer has taken or intends to take to comply with the standard, and other information the Secretary requires by regulation. Under 49 CFR Part 537, NHTSA also requires manufacturers to provide data on vehicle footprint so that the agency can determine a manufacturer's required fuel economy level and its compliance with that level. The information collected provides the National Highway Traffic Safety Administration (NHTSA) with advance indication whether automotive manufacturers expect to comply with the applicable average fuel economy standards; furnishes NHTSA with the necessary information to prepare its annual update on the Automotive Fuel Economy Program; aids NHTSA in responding to general requests concerning automotive fuel economy; and supplies NHTSA with detailed and current technical and economic information that will be used to evaluate possible future average fuel economy standards.

Affected Public: Automobile manufacturers.

Number of Respondents: Thirty.

Number of Responses: Fifty-four; some manufacturers have multiple fleets and 49 CFR Part 537 requires a separate report for each fleet.

Total Annual Burden Hours: Thirty automotive manufacturers must comply with 49 CFR 537. For each current model year, each manufacturer is required to submit semi-annual reports: a pre-model year report and a mid-model year report. The pre-model year report must be submitted during the month of December, and the mid-model year report must be submitted during the month of July. The total number of responses submitted by automotive manufacturers is 54. We currently have a clearance for 2,339 hours based on reports being received from 22 manufacturers. Including the 8 additional manufacturers results in an additional reporting burden of 850 hours. Adding that burden to the existing burden of 2,339 hours results in a total of 3,189 hours.

Frequency of Collection: A pre-model report and a mid-model report are required to be submitted by manufacturers once per model year for each applicable fleet (domestic passenger car, imported passenger car, light trucks).

ADDRESSES: Please send comments regarding the burden estimate, including suggestions for reducing the burden, to the Office of Management and Budget, Attention: Desk Officer for the Office of the Secretary of Transportation, 725 17th Street NW., Washington, DC 20503. Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Issued on: September 5, 2012.
Christopher J. Bonanti,
Associate Administrator for Rulemaking.

[FR Doc. 2012-22322 Filed 9-10-12; 8:45 am]

BILLING CODE 4910-59-P